Title 3—

The President

Proclamation 8083 of November 14, 2006

America Recycles Day, 2006

By the President of the United States of America

A Proclamation

Good stewardship of the environment is a personal responsibility and an important public value, and on America Recycles Day, we highlight the many benefits of recycling. By taking steps to reduce waste and re-use materials, we can save precious natural resources, enhance the beauty of our communities, and add to the health and prosperity of our Nation.

Our citizens play an important role in protecting our environment, and throughout our country, we are recycling, composting, and helping turn materials that would otherwise become waste into valuable resources. Recycling helps conserve energy, prevent greenhouse gas emissions and water pollutants, and decrease the need for new landfills and incinerators.

Recognizing the importance of recycling, my Administration is promoting cooperative efforts to conserve and maintain our natural resources. The Environmental Protection Agency is encouraging businesses, industries, and communities to work together to promote recycling through the Resource Conservation Challenge (RCC). Partnerships between government agencies, businesses, industries, and private organizations help us to improve practices of recycling, re-use, and waste reduction. In addition, my Administration is working with businesses through the Plug-In To eCycling Campaign to collect and re-use computers, cell phones, and other electronics that would otherwise become solid or hazardous waste. To further reduce greenhouse gas emissions and save energy, the EPA is also partnering with manufacturers, utility companies, and construction companies through the Industrial Materials Recycling effort to increase the safe re-use of industrial byproducts.

Americans are united in the belief that we have an obligation to be good stewards of the environment, and America Recycles Day is an opportunity to recommit ourselves to wisely managing our natural resources. By promoting responsibility and good citizenship, we can build a brighter future for our children and our Nation.

NOW, THEREFORE, I, GEORGE W. BUSH, President of the United States of America, by virtue of the authority vested in me by the Constitution and laws of the United States, do hereby proclaim November 15, 2006, as America Recycles Day. I call upon the people of the United States to observe this day with appropriate programs and activities.

IN WITNESS WHEREOF, I have hereunto set my hand this fourteenth day of November, in the year of our Lord two thousand six, and of the Independence of the United States of America the two hundred and thirty-first.

[FR Doc. 06-9282

Filed 11-16-06; 8:45 am]

Billing code 3195-01-P